DEPARTMENT OF TRANSPORTATION

Federal Aviation Administration

14 CFR Part 39

[Docket No. FAA-2016-2042; Directorate Identifier 2016-NE-02-AD; Amendment 39-18568; AD 2016-13-04]

RIN 2120-AA64

Airworthiness Directives; BRP-Powertrain GmbH & Co KG Reciprocating Engines

AGENCY: Federal Aviation Administration (FAA), DOT.

ACTION: Final rule.

SUMMARY: We are adopting a new airworthiness directive (AD) for certain BRP-Powertrain GmbH & Co KG Rotax 912 F2, 912 F3, 912 F4, 912 S2, 912 S3, 912 S4, 914 F2, 914 F3, and 914 F4 reciprocating engines. This AD requires re-identification of the engine model and concurrent modification of the aircraft to indicate the maximum coolant temperature limit. This AD was prompted by a design change introduced by the manufacturer that relocated the engine cylinder head temperature sensor to a different location and converted it to a coolant temperature sensor. We are issuing this AD to prevent exceeding engine coolant temperature limits, which could result in loss of engine coolant, damage to the engine, and loss of control of the airplane.

DATES: This AD becomes effective July 27, 2016.

The Director of the Federal Register approved the incorporation by reference of a certain publication listed in this AD as of July 27, 2016.

ADDRESSES: For service information identified in this final rule, contact BRP-Powertrain GmbH & Co KG, Rotaxstrasse 1, A-4623 Gunskirchen, Austria; phone: +43 7246 6010; fax: +43 7246 601 9130; email: airworthiness@brp.com; Internet: http://www.FLYROTAX.com. You may view this service information at the FAA, Engine & Propeller Directorate, 1200 District Avenue, Burlington, MA. For information on the availability of this material at the FAA, call 781-238-7125. It is also available on the Internet at http://www.regulations.gov by searching for and locating Docket No. FAA-2016-2042.

Examining the AD Docket

You may examine the AD docket on the Internet at http://www.regulations.gov by searching for and locating Docket No. FAA-2016-2042; or in person at the Docket Management Facility between 9 a.m. and 5 p.m., Monday through Friday, except Federal holidays. The AD docket contains this AD, the mandatory continuing airworthiness information (MCAI), the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Robert Green, Aerospace Engineer, Engine Certification Office, FAA, Engine & Propeller Directorate, 1200 District Avenue, Burlington, MA 01803; phone: 781-238-7754; fax: 781-238-7199; email: robert.green@faa.gov.

SUPPLEMENTARY INFORMATION:

Discussion

We issued a notice of proposed rulemaking (NPRM) to amend 14 CFR part 39 by adding an AD that would apply to the specified products. The NPRM was published in the Federal Register on March 18, 2016 (81 FR 14804). The NPRM proposed to correct an unsafe condition for the specified products. The MCAI states:

A design change of the engine cylinder heads was introduced by BRP-Powertrain in March 2013 which modifies the engine/aircraft interfaces by substituting the previous cylinder head temperature (CHT) measurement (limit temperature 135 °C/150 °C) with a coolant temperature (CT) measurement (limit temperature 120 °C).

The design change was communicated on 15 May 2013 by BRP-Powertrain Service Instruction (SI) 912-020R7/914-022R7 (single document) but was not identified by a change of the engine model designation or of the engine P/N but only through the cylinder head P/N and the position of the temperature sensor.

Consequently, engines with the new cylinder heads (installed during production or replaced in-service during maintenance) may be installed on an aircraft without concurrent modification of that aircraft, instructions for which should be provided by the type certificate (TC) holder or the supplemental type certificate (STC) holder, as applicable. In this case, the coolant temperature with a maximum engine operating limit of 120 °C (valid for engines operated with water diluted glycol coolant) is displayed on a CHT indicator with a typical limit marking (red radial/range) of more than 120 °C.

You may obtain further information by examining the MCAI in the AD docket on the Internet at http://www.regulations.gov by searching for and locating Docket No. FAA-2016-2042.

Comments

We gave the public the opportunity to participate in developing this AD. We received no comments on the NPRM (81 FR 14804, March 18, 2016).

Conclusion

We reviewed the available data and determined that air safety and the public interest require adopting this AD as proposed expect for minor editorial changes. We determined that these changes will not increase the economic burden on any operator or increase the scope of this AD.

Related Service Information Under 1 CFR Part 51

BRP-Powertrain GmbH & Co KG has issued Service Bulletin (SB) SB-912-068/SB-914-049 (one document), dated April 16, 2015. The service information describes procedures for re-identification of the type plate for certain BRP-Powertrain GmbH & Co KG Rotax 912 and 914 engines. This service information is reasonably available because the interested parties have access to it through their normal course of business or by the means identified in the ADDRESSES section.

Costs of Compliance

We estimate that this AD affects about 40 engines installed on aircraft of U.S. registry. We also estimate that it will take about 5 hours per engine to inspect and re-identify the type plate. The average labor rate is $85 per hour. Based on these figures, we estimate the cost of this AD on U.S. operators to be $17,000.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-13-04 BRP-Powertrain GmbH & Co KG (formerly BRP-Rotax GmbH & Co KG, Bombardier-Rotax GmbH & Co. KG, and Bombardier-Rotax GmbH): Amendment 39-18568; Docket No. FAA-2016-2042; Directorate Identifier 2016-NE-02-AD.

(a) Effective Date

This AD becomes effective July 27, 2016.

(b) Affected ADs

None.

(c) Applicability

This AD applies to BRP-Powertrain GmbH & Co KG Rotax model 912 F2, 912 F3, 912 F4, 912 S2, 912 S3, 912 S4, 914 F2, 914 F3, and 914 F4 reciprocating engines with a cylinder head that has a part number (P/N) listed in Figure 1 to paragraph (c) of this AD and that is installed in position 2 or 3.

Figure 1 to Paragraph (c) of This AD—Post-Modification Cylinder Head P/N
Engine model | Cylinder head P/N
912 F2, 912 F3, 912 F4, 914 F2, 914 F3, and 914 F4 | P/N 413235 or P/N 413236.
912 S2, 912 S3, and 912 S4 | P/N 413185.

(d) Reason

This AD was prompted by a design change introduced by the manufacturer that relocated the engine cylinder head temperature sensor to a new location and converted it to a coolant temperature sensor. We are issuing this AD to prevent exceeding coolant temperature limits, which could result in loss of engine coolant, damage to the engine, and loss of control of the airplane.

(e) Actions and Compliance

Comply with this AD within 6 months after the effective date of this AD, unless already done.

(1) For engines with cylinder heads that have a P/N listed in Figure 1 to paragraph (c) of this AD installed on both position 2 and position 3, change the engine model designation on the engine type data plate to include a “-01” suffix. Use paragraph 3.1.1 of BRP-Powertrain Service Bulletin (SB) SB-912-068/SB-914-049, dated April 16, 2015, to make this change.

(2) For engines with only one cylinder head having a P/N listed in Figure 1 to paragraph (c) of this AD installed in position 2 or 3, do one of the following:

(i) Replace the cylinder head having a P/N listed in Figure 1 to paragraph (c) of this AD with a P/N 623682 cylinder head on Rotax 912 F2, 912 F3, 912 F4, 914 F2, 914 F3, and 914 F4 engines and with a P/N 623687 cylinder head on Rotax 912 S2, 912 S3, and 912 S4 engines. If you complete the actions in paragraph (e)(2)(i), no further action is required. Or,

(ii) Install cylinder heads identified in Figure 1 to paragraph (c) of this AD on both cylinder head positions 2 and 3 and change the engine model designation of the engine type data plate in accordance with paragraph (e)(1) of this AD.

(3) For engines re-identified in accordance with paragraph (e)(1) or (e)(2)(ii) of this AD, before further flight, modify the aircraft cockpit instrumentation and related documentation to indicate a maximum coolant temperature limit of 120 degrees Celsius using FAA-approved procedures. These re-identified engines remain eligible for installation on approved aircraft-engine combinations.

(f) Alternative Methods of Compliance (AMOCs)

The Manager, Engine Certification Office, FAA, may approve AMOCs for this AD. Use the procedures found in 14 CFR 39.19 to make your request. You may email your request to: ANE-AD-AMOC@faa.gov.

(g) Related Information

(1) For more information about this AD, contact Robert Green, Aerospace Engineer, Engine Certification Office, FAA, Engine & Propeller Directorate, 1200 District Avenue, Burlington, MA 01803; phone: 781-238-7754; fax: 781-238-7199; email: robert.green@faa.gov.

(2) For more information about the installation modifications described in paragraph (e)(3) of this AD, contact Jim Rutherford, Aerospace Engineer, FAA, Small Airplane Directorate, 901 Locust Ave. Room 301, Kansas City, MO; phone: 816-329-4165; fax: 816-329-4090; email: Jim.Rutherford@faa.gov.

(3) Refer to MCAI European Aviation Safety Agency, AD 2015-0240, dated December 18, 2015, for more information. You may examine the MCAI in the AD docket on the Internet at http://www.regulations.gov by searching for and locating it in Docket No. FAA-2016-2042.

(4) The following aircraft service information, which are not incorporated by reference in this AD, contain FAA-approved procedures for complying with paragraph (e)(3) of this AD and can be obtained from BRP-Powertrain GmbH & Co. KG, using the contact information in paragraph (h)(3) of this AD:

Figure 2 to Paragraph (g) of This AD—Aircraft Type/Model and Service Information
Type/model(s) | SB
Aquila AT01 | SB-AT01-029.
TECNAM P92, P2002 and P2006T | SB-183-CS.
TECNAM P2008 JC | SB-185-CS.
Diamond H 36 “Dimona” and HK 36 “Super Dimona” | OSB 36-111.
Diamond DV 20 “Katana” | OSB 20-066.
Diamond (Canada) DA20-A1 “Katana” | SB Da20-72-04.
M&D AVO 68 “Samburo” | TM 808-31.
Scheibe SF 25 C and SF 36 R | SI_02-14.

(h) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) BRP-Powertrain Service Bulletin SB-912-068/SB-914-049 (one document), dated April 16, 2015.

(ii) Reserved.

(3) For BRP-Powertrain service information identified in this AD, contact BRP-Powertrain GmbH & Co. KG, Rotaxstrasse 1, A-4623 Gunskirchen, Austria; phone: +43 7246 6010; fax: +43 7246 601 9130; email: airworthiness@brp.com; Internet: www.flyrotax.com.

(4) You may view this service information at FAA, Engine & Propeller Directorate, 1200 District Avenue, Burlington, MA. For information on the availability of this material at the FAA, call 781-238-7125.

(5) You may view this service information at the National Archives and Records Administration (NARA). For information on the availability of this material at NARA, call 202-741-6030, or go to: http://www.archives.gov/federal-register/cfr/ibr-locations.html.

Issued in Burlington, Massachusetts, on June 14, 2016.
Colleen M. D'Alessandro,
Manager, Engine & Propeller Directorate, Aircraft Certification Service.

[FR Doc. 2016-14789 Filed 6-21-16; 8:45 am]

BILLING CODE 4910-13-P